DEPARTMENT OF HOMELAND SECURITY

Coast Guard

[USCG-2007-27793]

Collection of Information Under Review by Office of Management and Budget: OMB Control Numbers: 1625-0002, 1625-0017, 1625-0030, 1625-0072, and 1625-0078

AGENCY: Coast Guard, DHS.

ACTION: Request for comments.

SUMMARY: In compliance with the Paperwork Reduction Act of 1995, this request for comments announces that the Coast Guard is forwarding five Information Collection Requests (ICRs), abstracted below, to the Office of Information and Regulatory Affairs (OIRA) of the Office of Management and Budget (OMB) requesting an extension of their approval for the following collections of information: (1) 1625-0002, Application for Vessel Inspection, Waiver, and Continuous Synopsis Record; (2) 1625-0017, Various International Agreement Safety Certificates and Documents; (3) 1625-0030, Oil and Hazardous Materials Transfer Procedures; (4) 1625-0072, Waste Management Plans, Refuse Discharge Logs, and Letters of Instruction for Certain Persons-in-Charge (PIC); and (5) 1625-0078, Licensing and Manning Requirements for Officers on Towing Vessels. Our ICRs describe the information we seek to collect from the public. Review and comments by OIRA ensure we only impose paperwork burdens commensurate with our performance of duties.

DATES: Please submit comments on or before September 10, 2007.

ADDRESSES: To make sure your comments and related material do not enter the docket [USCG-2007-27793] or OIRA more than once, please submit them by only one of the following means:

(1)(a) By mail to the Docket Management Facility (M-30), U.S. Department of Transportation (DOT), West Building Ground Floor, Room W12-140, 1200 New Jersey Avenue, SE., Washington, DC 20590. (b) By mail to OIRA, 725 17th Street, NW., Washington, DC 20503, to the attention of the Desk Officer for the Coast Guard.

(2)(a) By delivery to room W12-140 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 or (b) OIRA at (202) 395-6566. To ensure your comments are received in time, mark the fax to the attention of Mr. Nathan Lesser, Desk Officer for the Coast Guard.

(4)(a) Electronically through the Web site for the Docket Management System (DMS) at http://dms.dot.gov. (b) By e-mail to nlesser@omb.eop.gov.

The Docket Management Facility maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://dms.dot.gov.

Copies of complete ICRs are available through this docket on the Internet at http://dms.dot.gov. Additionally, copies are available from Commandant (CG-611), U.S. Coast Guard Headquarters, (Attn: Mr. Arthur Requina), 2100 2nd Street, SW., Washington, DC 20593-0001. The telephone number is (202) 475-3523.

FOR FURTHER INFORMATION CONTACT: Mr. Arthur Requina, Office of Information Management, telephone (202) 475-3523 or fax (202) 475-3929, for questions on these documents. Contact Ms. Renee V. Wright, Program Manager, Docket Operations, (202) 366-9826, for questions on the docket.

SUPPLEMENTARY INFORMATION: The Coast Guard invites comments on the proposed collections of information to determine if collections are necessary in the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to DMS or OIRA must contain the OMB Control Number of the ICRs addressed. Comments to DMS must contain the docket number of this request, [USCG 2007-27793]. For your comments to OIRA to be considered, it is best if OIRA receives them on or before September 10, 2007.

Public participation and request for comments: We encourage you to respond to this request by submitting comments and related materials. We will post all comments received, without change, to http://dms.dot.gov. They will include any personal information you provide. We have an agreement with DOT to use their Docket Management Facility. Please see the paragraph on DOT's “Privacy Act Policy” below.

Submitting comments: If you submit a comment, please include your name and address, identify the docket number for this request for comment [USCG-2007-27793], indicate the specific section of this document or the ICR to which each comment applies, providing a reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments

This request provides a 30-day comment period required by OIRA. The Coast Guard has already published the 60-day notice (72 FR 18483, April 12, 2007) required by 44 U.S.C. 3506(c)(2). That notice elicited no comments.

Information Collection Request

1. Title: Application for Vessel Inspection, Waiver and Continuous Synopsis Record.

OMB Control Number: 1625-0002.

Type of Request: Extension of a currently approved collection.

Affected Public: Vessel owner, operator, agent, master, or interested U.S. Government agency.

Forms: CG-2633, CG-3752, and CG-6039.

Abstract: This collection of information requires the vessel owner, operator, agent, or master of a vessel to apply in writing to the Coast Guard before the commencement of an inspection for certification (46 CFR 31.01-15, 91.25-5, 126.420, 169.205, and 189.25-5), when a waiver is desired from the requirements of navigation and vessel inspection (33 CFR 19.01 and 46 CFR 6.01), or to request a Continuous Synopsis Record (33 CFR 104.297).

Burden Estimate: The estimated burden has decreased from 979 hours to 848 hours a year.

2. Title: Various International Agreement Safety Certificates and Documents.

OMB Control Number: 1625-0017.

Type of Request: Extension of a currently approved collection.

Affected Public: Owners and operators of SOLAS vessels.

Forms: CG-967, CG-968, CG-968A, CG-969, CG-3347, CG-3347B, CG-4359, CG-4360, CG-4361, CG-5643, CG-5679, CG-5679A, CG-5680, CG-6038, and CG-6038A.

Abstract: These 15 forms are based on the United States' adoption of the International Convention for Safety of Life at Sea, (SOLAS) 1974. The 15 forms are evidence of compliance with this convention for U.S. vessels on international voyages. Without the proper certificates or documents, a U.S. vessel could be detained in foreign ports. The applicable requirements are found at 46 CFR 2.01-25.

Burden Estimate: The estimated burden has increased from 96 hours to 126 hours a year.

3. Title: Oil and Hazardous Materials Transfer Procedures.

OMB Control Number: 1625-0030.

Type of Request: Extension of a currently approved collection.

Affected Public: Owners and operators of vessels.

Forms: None.

Abstract: The collection of information requires vessels with a cargo capacity of 250 barrels or more of oil or hazardous materials to develop and maintain transfer procedures (see 33 CFR 155.720—155.820). Transfer procedures provide basic safety information for operating transfer systems with the goal of pollution prevention.

Burden Estimate: The estimated burden has increased from 89 hours to 133 hours a year.

4. Title: Waste Management Plans, Refuse Discharge Logs, and Letters of Instruction for Certain Persons-in-Charge (PIC).

OMB Control Number: 1625-0072.

Type of Request: Extension of a currently approved collection.

Affected Public: Owners, operators, masters, and PIC of vessels.

Forms: None.

Abstract: This information is needed to ensure that: (1) Certain U.S. ocean-going vessels develop and maintain a waste management plan (33 CFR 151.55); (2) certain U.S. ocean-going vessels maintain refuse discharge records (33 CFR 151.57); and (3) certain individuals acting as PIC for the transfer of fuel, receive a letter of instruction for pollution prevention (33 CFR 155.710; 155.715).

Burden Estimate: The estimated burden has increased from 55,484 hours to 67,030 hours a year.

5. Title: Licensing and Manning Requirements for Officers on Towing Vessels.

OMB Control Number: 1625-0078.

Type of Request: Extension of a currently approved collection.

Affected Public: Owners and operators towing vessels.

Forms: None.

Abstract: Licensing and manning requirements found in 46 CFR part 10 ensure that towing vessels operating on the navigable waters of the U.S. are under the control of licensed officers who meet certain qualification and training standards.

Burden Estimate: The estimated burden has increased from 17,159 hours to 19,764 hours a year.

Dated: August 1, 2007.
D.T. Glenn,
Rear Admiral, U.S. Coast Guard, Assistant Commandant for Command, Control, Communications, Computers and Information Technology.

[FR Doc. E7-15482 Filed 8-8-07; 8:45 am]

BILLING CODE 4910-15-P